FEDERAL COMMUNICATIONS COMMISSION

[OMB 3060-0233]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before July 27, 2015. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

OMB Control No: 3060-0233.

Title: Part 54, High-Cost Loop Support Reporting to National Exchange Carrier Association (NECA).

Form Number: N/A.

Type of Review: Revision of a currently approved collection.

Respondents: Business or other for-profit.

Number of Respondents: 1,095 respondents; 1,515 responses.

Estimated Time per Response: 22 hours.

Frequency of Response: On occasion reporting requirement, annual reporting requirement and third party disclosure requirement.

Obligation to Respond: Required to obtain or retain benefits. Statutory authority for information collection is contained in 47 U.S.C. 151, 154(i), and (j), 221(c) and 410(c).

Total Annual Burden: 33,330 hours.

Total Annual Cost: No cost.

Privacy Act Impact Assessment: No impact.

Nature and Extent of Confidentiality: No assurance of confidentiality has been given regarding the information.

Need and Uses: In order to determine which carriers are entitled to high-cost loop support, rate-of-return incumbent local exchange carriers (LECs) must provide the National Exchange Carrier Association (NECA) with the loop cost and loop count data required by 47 CFR 54.1305 of the Commission's rules for each of its study areas and, if applicable, for each wire center (that term is defined in 47 CFR part 54). The loop cost and loop count information is to be filed annually with NECA by July 31st of each year, and may be updated occasionally pursuant to 47 CFR 54.1306. Pursuant to section 54.1307, the information filed on July 31st of each year will be used to calculate universal service support for each study area and is filed by NECA with the Commission by October 1 of each year. An incumbent LEC is defined as a carrier that meets the definition of “incumbent local exchange carrier” in 47 CFR 51.5 of the Commission's rules.

The reporting requirements are necessary to implement the congressional mandate for universal service. The requirements are necessary to verify that rate-of-return LECs are eligible to receive universal service support. Information filed with NECA pursuant to section 54.1305 is used to calculate universal service support payments to eligible carriers. Without this information, NECA and USAC (Universal Service Administration Company) would not be able to calculate such payments to eligible carriers.

Federal Communications Commission.
Marlene H. Dortch,
Secretary, Office of the Secretary.

[FR Doc. 2015-12658 Filed 5-26-15; 8:45 am]

BILLING CODE 6712-01-P